DEPARTMENT OF COMMERCE

International Trade Administration

[A-428-852, A-588-882, A-421-817, A-274-810]

Melamine From Germany, Japan, the Netherlands, and Trinidad and Tobago: Antidumping Duty Orders

AGENCY: Enforcement and Compliance, International Trade Administration, Department of Commerce.

SUMMARY: Based on affirmative final determinations by the U.S. Department of Commerce (Commerce) and the U.S. International Trade Commission (ITC), Commerce is issuing the antidumping duty orders on melamine from Germany, Japan, the Netherlands, and Trinidad and Tobago.

DATES: Applicable January 31, 2025.

FOR FURTHER INFORMATION CONTACT: Noah Wetzel at (202) 482-7466 (Germany); George McMahon at (202) 482-1167 (Japan); Janae Martin at (202) 482-0238 (the Netherlands); and Brittany Bauer at (202) 482-3860 (Trinidad and Tobago), AD/CVD Operations, Enforcement and Compliance, International Trade Administration, U.S. Department of Commerce, 1401 Constitution Avenue NW, Washington, DC 20230.

SUPPLEMENTARY INFORMATION:

Background

In accordance with sections 735(d) and 777(i) of the Tariff Act of 1930, as amended (the Act) on December 9, 2024, Commerce published in the Federal Register its affirmative final determinations in the less-than-fair-value (LTFV) investigations of melamine from Germany, Japan, the Netherlands, and Trinidad and Tobago.¹ On January 23, 2025, the ITC notified Commerce of its final affirmative determinations, pursuant to section 735(d) of the Act, that an industry in the United States is materially injured within the meaning of section 735(b)(1)(A)(i) of the Act by reason of LTFV imports of melamine from Germany, Japan, and the Netherlands, and that an industry in the United States is threatened with material injury by reason of imports of such merchandise from Trinidad and Tobago that are sold in the United States at LTFV.² Further, the ITC determined that critical circumstances do not exist with respect to LTFV imports of melamine from Japan.³

¹ See Melamine from Germany: Final Affirmative Determination of Sales at Less Than Fair Value, 89 FR 97584 (December 9, 2024) (Germany Final Determination); Melamine from Japan: Final Affirmative Determination of Sales at Less Than Fair Value and Final Affirmative Determination of Critical Circumstances, In Part, 89 FR 97601 (December 9, 2024) (Japan Final Determination); Melamine from the Netherlands: Final Affirmative Determination of Sales at Less Than Fair Value, 89 FR 97590 (December 9, 2024) (Netherland Final Determination); and Melamine from Trinidad and Tobago: Final Affirmative Determination of Sales at Less Than Fair Value and Final Affirmative Determination of Critical Circumstances, In Part, 89 FR 97598 (December 9, 2024) (Trinidad and Tobago Final Determination) (collectively, the Final Determinations).

² See ITC's Letter, Notification Letter: Investigation Nos. 701-TA-706, 708-709 and 731-TA-1667, 1669-1670, 1672 (Final), dated January 23, 2025 (ITC Notification Letter).

³ Having made a determination that an industry in the United States is threatened with material injury by reason of imports of melamine from Trinidad and Tobago, the ITC did not reach the issue of critical circumstances regarding subject imports from Trinidad and Tobago. See Melamine from Germany, Japan, Netherlands, Qatar, and Trinidad and Tobago, Investigation Nos. 701-TA-706, 708-709 and 731-TA-1667, 1669-1670, 1672 (Final), dated January 23, 2025 (ITC Final Report).

Scope of the Orders

The product covered by these orders is melamine from Germany, Japan, the Netherlands, and Trinidad and Tobago. For a complete description of the scope of these orders, see the appendix to this notice.

Antidumping Duty Orders

Based on the above-referenced affirmative final determinations by the ITC that an industry in the United States is materially injured by reason of LTFV imports of melamine from Germany, Japan, and the Netherlands, and that an industry in the United States is threatened with material injury by reason of imports of such merchandise from Trinidad and Tobago,⁴ and, in accordance with sections 735(c)(2) and 736 of the Act, Commerce is issuing these antidumping duty orders. Because the ITC determined that an industry in the United States is materially injured by reason of imports of melamine from Germany, Japan, the Netherlands, and Trinidad and Tobago are materially injuring, or threatening to material injury a U.S. industry,⁵ unliquidated entries of such merchandise from Germany, Japan, the Netherlands, and Trinidad and Tobago, entered or withdrawn from warehouse for consumption, are subject to the assessment of antidumping duties.

⁴ Id.

⁵ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of melamine from Germany, Japan, the Netherlands, and Trinidad and Tobago. For all relevant entries of melamine from Germany, Japan, and the Netherlands, antidumping duties will be assessed on unliquidated entries of melamine entered, or withdrawn from warehouse, for consumption on or after June 26, 2024, the date of publication of the Preliminary Determinations in the Federal Register, but will not include entries occurring after the expiration of the provisional measures period and before publication of the ITC's final injury determination, as further described below.⁶

⁶ See Melamine from Germany: Preliminary Affirmative Determination of Sales at Less Than Fair Value, 89 FR 77822 (September 24, 2024) (Germany Preliminary Determination) and accompanying Preliminary Decision Memorandum (PDM); see also Melamine from Japan: Preliminary Affirmative Determination of Sales at Less Than Fair Value and Affirmative Determination of Critical Circumstances, In Part, 89 FR 77819 (September 24, 2024) (Japan Preliminary Determination) and accompanying PDM; Melamine from the Netherlands: Preliminary Affirmative Determination of Sales at Less Than Fair Value, 89 FR 77829 (September 24, 2024) (Netherlands Preliminary Determination) and accompanying PDM; and Melamine from Trinidad and Tobago: Preliminary Affirmative Determination of Sales at Less Than Fair Value and Affirmative Determination of Critical Circumstances, In Part, 89 FR 77814 (September 24, 2024) (Trinidad and Tobago Preliminary Determination) and accompanying PDM (collectively, the Preliminary Determinations).

Pursuant to section 736(b)(2) of the Act, duties shall be assessed on subject merchandise entered, or withdrawn from warehouse, for consumption on or after the date of publication of the ITC's notice of final determination if that determination is based on the threat of material injury and is not accompanied by a finding that injury would have resulted without the imposition of suspension of liquidation of entries since Commerce's preliminary determination.

Additionally, section 736(b)(2) of the Act requires CBP to refund any cash deposits or bonds of estimated antidumping duties posted since the preliminary antidumping determination if the ITC's final determination is threat-based.

Because the ITC's final determination for Trinidad and Tobago is based on the threat of material injury and is not accompanied by a finding that injury would have resulted but for the imposition of suspension of liquidation of entries since the Trinidad and Tobago Preliminary Determination, section 736(b)(2) of the Act is applicable.⁷ Therefore, Commerce will instruct CBP to assess duties on entries of melamine from Trinidad and Tobago entered, or withdrawn from warehouse, for consumption on or after the date of publication of the ITC's notice of final determination of threat of material injury in the Federal Register, in accordance with the dumping margins listed in the rate chart below for Trinidad and Tobago.

⁷ See ITC Final Report at 1, footnote 4.

Critical Circumstances

With respect to the ITC's negative critical circumstances determination on imports of melamine from Japan, we will instruct CBP to lift the suspension of liquidation and to refund all cash deposits for estimated antidumping duties with respect to entries of the subject merchandise entered, or withdrawn from warehouse, for consumption on or after June 26, 2024, i.e., 90 days prior to the date of the publication of the Japan Preliminary Determination, but before September 24, 2024, the date of publication of the Japan Preliminary Determination.

Continuation of Suspension of Liquidation

Except as noted in the “Provisional Measures” section of this notice below, in accordance with section 736 of the Act, Commerce intends to instruct CBP to continue to suspend liquidation of all relevant entries of melamine from Germany, Japan, the Netherlands, and Trinidad and Tobago. These instructions suspending liquidation will remain in effect until further notice.

Commerce also intends to instruct CBP to require cash deposits at a rate equal to the estimated weighted-average dumping margins indicated in the table below. Accordingly, effective on the date of publication in the Federal Register of the notice of the ITC's final affirmative injury determinations, CBP will require, at the same time that importers would normally deposit estimated duties on the merchandise, a cash deposit equal to the rates listed below. The relevant all-others rates apply to all producers or exporters not specifically listed.

Estimated Weighted-Average Dumping Margins

Pursuant to section 735 of the Act, the final estimated weighted-average dumping margins are as follows:

Country | Exporter/producer | Weighted-average dumping margin (percent)
Germany | LAT Nitrogen Piesteritz GmbH | 218.73
| All Others | 179.24
Japan | Mitsui Chemicals, Inc | 127.69
| All Others | 115.11
Netherlands | OCI Nitrogen B.V | 72.16
| All Others | 53.50
Trinidad and Tobago | Methanol Holdings (Trinidad) Limited | 146.85
| All Others | 98.32

Provisional Measures

Section 733(d) of the Act states that suspension of liquidation pursuant to an affirmative preliminary determination, may not remain in effect for more than four months, except that Commerce may extend the four-month period to no more than six months.

Commerce published the Preliminary Determinations in these investigations in the Federal Register on September 24, 2024.⁸ Commerce did not extend the deadline for issuing its final determinations in these investigations, which it published in the in the Federal Register on December 9, 2024. Therefore, the four-month period beginning on the date of publication of the Preliminary Determination ended on January 21, 2025.

⁸ See Preliminary Determinations.

Consequently, in accordance with section 733(d) of the Act and its practice,⁹ Commerce will instruct CBP to terminate the suspension of liquidation and to liquidate, without regard to antidumping duties, unliquidated entries of melamine from Germany, Japan, the Netherlands, and Trinidad and Tobago entered or withdrawn from warehouse for consumption, after January 21, 2025, the final day on which the provisional measures were in effect, until and through the day preceding the date of publication of the ITC's final affirmative injury determinations in the Federal Register. Suspension of liquidation and the collection of cash deposits will resume on the date of publication of the ITC's final determinations in the Federal Register.

⁹ See, e.g., Certain Corrosion-Resistant Steel Products from India, Italy, the People's Republic of China, the Republic of Korea, and Taiwan: Amended Final Affirmative Antidumping Determination for India and Taiwan, and Antidumping Duty Orders, 81 FR 48390, 48392 (July 25, 2016).

Establishment of the Annual Inquiry Service Lists

On September 20, 2021, Commerce published the final rule titled “Regulations to Improve Administration and Enforcement of Antidumping and Countervailing Duty Laws” in the Federal Register.¹⁰ On September 27, 2021, Commerce also published the notice titled “Scope Ruling Application; Annual Inquiry Service List; and Informational Sessions” in the Federal Register.¹¹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹²

¹⁰ See Regulations to Improve Administration and Enforcement of Antidumping and Countervailing Duty Laws, 86 FR 52300 (September 20, 2021) (Final Rule).

¹¹ See Scope Ruling Application; Annual Inquiry Service List; and Informational Sessions, 86 FR 53205 (September 27, 2021) (Procedural Guidance).

¹² Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹³

¹³ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁴ the new annual inquiry service list will be in place until the following year, when the Opportunity Notice for the anniversary month of the order is published.

¹⁴ See Procedural Guidance, 86 FR at 53206.

Commerce may update an annual inquiry service list at any time as needed based on interested parties' amendments to their entries of appearance to remove or otherwise modify their list of members and representatives, or to update contact information. Changes or announcements pertaining to these procedures will be posted to the ACCESS website at https://access.trade.gov.

Special Instructions for Petitioner and Foreign Governments

In the Final Rule, Commerce stated that, “after an initial request and placement on the annual inquiry service list, both petitioners and foreign governments will automatically be placed on the annual inquiry service list in the years that follow.” ¹⁵ Accordingly, as stated above, the petitioner ¹⁶ and Governments of Germany, Japan, the Netherlands, and Trinidad and Tobago should submit their initial entries of appearance after publication of this notice in order to appear in the first annual inquiry service lists for these orders. Pursuant to 19 CFR 351.225(n)(3), the petitioner and the Governments of Germany, Japan, the Netherlands, and Trinidad and Tobago will not need to resubmit their entries of appearance each year to continue to be included on the annual inquiry service list. However, the petitioner and the Governments of Germany, Japan, the Netherlands, and Trinidad and Tobago are responsible for making amendments to their entries of appearance during the annual update to the annual inquiry service list in accordance with the procedures described above.

¹⁵ See Final Rule, 86 FR at 52335.

¹⁶ The petitioner is Cornerstone Chemical Company.

Notification to Interested Parties

This notice constitutes the AD Orders with respect to melamine from Germany, Japan, the Netherlands, and Trinidad and Tobago, pursuant to section 736(a) of the Act. Interested parties can find a list of AD orders currently in effect at https://enforcement.trade.gov/stats/iastats1.html.

These orders are published in accordance with sections 736(a) of the Act, and 19 CFR 351.211(b).

Dated: January 27, 2025.
Abdelali Elouaradia,
Acting Assistant Secretary for Enforcement and Compliance.

Appendix—Scope of the Orders

The merchandise subject to these orders is melamine (Chemical Abstracts Service (CAS) registry number 108-78-01, molecular formula C3 H6 N6). Melamine is also known as 2,4,6-triamino-striazine; 1,3,5-Triazine-2,4,6-triamine; Cyanurotriamide; Cyanurotriamine; Cyanuramide; and by various brand names. Melamine is a crystalline powder or granule. All melamine is covered by the scope of these orders irrespective of purity, particle size, or physical form. Melamine that has been blended with other products is included within this scope when such blends include constituent parts that have been intermingled, but that have not been chemically reacted with each other to produce a different product. For such blends, only the melamine component of the mixture is covered by the scope of these orders. Melamine that is otherwise subject to these orders is not excluded when commingled with melamine from sources not subject to these orders. Only the subject component of such commingled products is covered by the scope of these orders.

The subject merchandise is provided for in subheading 2933.61.0000 of the Harmonized Tariff Schedule of the United States (HTSUS). Although the HTSUS subheading and CAS registry number are provided for convenience and customs purposes, the written description of the scope is dispositive.

[FR Doc. 2025-01999 Filed 1-30-25; 8:45 am]

BILLING CODE 3510-DS-P